DEPARTMENT OF TRANSPORTATION

Federal Aviation Administration

14 CFR Part 39

[Docket No. FAA-2005-22690; Directorate Identifier 2005-NE-35-AD

RIN 2120-AA64

Airworthiness Directives; McCauley Propeller Systems Five-Blade Propeller Assemblies

AGENCY: Federal Aviation Administration (FAA), DOT.

ACTION: Notice of proposed rulemaking (NPRM).

SUMMARY: The FAA proposes to supersede an existing airworthiness directive (AD) for certain McCauley Propeller Systems propeller assemblies. That AD currently requires removing certain propeller hubs from service at new, reduced life limits and eddy current inspections (ECIs) of the propeller hub. This proposed AD would require removing certain propeller hubs from service before they exceed 6,000 hours time-since-new (TSN). This proposed AD results from a report of a crack in a propeller hub. We are proposing this AD to prevent cracked propeller hubs, which could cause failure of the propeller hub, blade separation, and loss of control of the airplane.

DATES: We must receive any comments on this proposed AD by August 16, 2010.

ADDRESSES: Use one of the following addresses to comment on this proposed AD.

• Federal eRulemaking Portal: Go to http://www.regulations.gov and follow the instructions for sending your comments electronically.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: (202) 493-2251.

FOR FURTHER INFORMATION CONTACT: Jeff Janusz, Aerospace Engineer, Wichita Aircraft Certification Office, FAA, Small Airplane Directorate, 1801 Airport Road, Room 100, Wichita, KS 67209, telephone: (316) 946-4148; fax: (316) 946-4107.

SUPPLEMENTARY INFORMATION:

Comments Invited

We invite you to send any written relevant data, views, or arguments regarding this proposal. Send your comments to an address listed under ADDRESSES. Include “Docket No. FAA-2005-22690; Directorate Identifier 2005-NE-35-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

The FAA proposes to amend 14 CFR part 39 by superseding AD 2005-24-08, Amendment 39-14388. (70 FR 71756, November 30, 2005). That AD requires:

• Removing any propeller hub from service that is currently, or ever was, operated on an engine with a water-methanol assist system, not later than 6,000 hours time-in-service (TIS).

• Removing any other propeller hub from service not later than 18,000 hours TIS.

• Removing any propeller hub from service that exceeds its life limit on the effective date of this AD, within 50 hours TIS after the effective date of this AD.

• That any propeller hub removed from service after exceeding its life limit must not be returned to service on any installation.

• For all installed propeller hubs, performing an ECI within 200 hours TIS or 60 days after the effective date of this AD, whichever occurs first.

• Thereafter, for all installed propeller hubs with 12,000 or more hours TIS, performing repetitive ECIs within 1,800 hours TIS or 12 months, whichever occurs first.

That AD was the result of three reports of cracked propeller hubs. That condition, if not corrected, could result in failure of the propeller hub, blade separation, and loss of control of the airplane.

Actions Since AD 2005-24-08 Was Issued

Since that AD was issued, we received a report of a cracked propeller hub. The cracked hub was found during the propeller inspection or overhaul processes on a propeller assembly removed from a Jetstream 41 airplane. The cracked hub has 7,807 hours TSN. The life limit of the hub is 18,000 hours TSN. The crack was found on the rear of the hub, on the propeller mounting flange. The crack originated from the bottom of a large (0.63-inch) dowel hole. To date, we have received no other field reports of cracked hubs or occurrences of propeller hub failure and separation attributed to this particular unsafe condition.

Relevant Service Information

We reviewed and approved the technical contents of McCauley Alert Service Bulletin (ASB) No. ASB250A, dated February 12, 2010. This ASB introduces new lower life limits for the propeller hubs identified in this AD.

FAA's Determination and Requirements of the Proposed AD

We have evaluated all pertinent information and identified an unsafe condition that is likely to exist or develop on other products of this same type design. For that reason, we are proposing this AD, which would require:

• Removing from service the hub of any propeller assembly, P/N B5JFR36C1101/114GCA-0, C5JFR36C1102/L114GCA-0, B5JFR36C1103/114HCA-0, or C5JFR36C1104/L114HCA-0, if the hub exceeds 6,000 hours TSN on the effective date of this AD, within 250 hours TIS after the effective date of this AD.

• Removing from service the hub of any propeller assembly, P/N B5JFR36C1101/114GCA-0, C5JFR36C1102/L114GCA-0, B5JFR36C1103/114HCA-0, or C5JFR36C1104/L114HCA-0, if the hub has fewer than 6,000 hours TSN, not later than 6,000 hours TSN.

The proposed AD would require that you do these actions using the service information described previously.

Costs of Compliance

We estimate that this proposed AD would affect 30 propeller assemblies installed on airplanes of U.S. registry. We also estimate that it would take about 42 work-hours per propeller assembly to perform the proposed actions, and that the average labor rate is $85 per work-hour. Required parts would cost about $6,000 per propeller assembly. Based on these figures, we estimate the total cost of the proposed AD to U.S. operators to be $287,100.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14388. (70 FR 71756, November 30, 2005) and by adding a new airworthiness directive to read as follows:

McCauley Propeller Systems: Docket No. FAA-2005-22690; Directorate Identifier 2005-NE-35-AD.

Comments Due Date

(a) The Federal Aviation Administration (FAA) must receive comments on this airworthiness directive (AD) action by August 16, 2010.

Affected ADs

(b) This AD supersedes AD 2005-24-08, Amendment 39-14388.

Applicability

(c) This AD applies to McCauley Propeller Systems propeller assemblies, part numbers (P/Ns) B5JFR36C1101/114GCA-0, C5JFR36C1102/L114GCA-0, B5JFR36C1103/114HCA-0, and C5JFR36C1104/L114HCA-0. These propeller assemblies are installed on BAE Systems (Operations) Limited Jetstream Model 4100 series airplanes.

Unsafe Condition

(d) This AD results from a report of a cracked propeller hub. We are issuing this AD to prevent cracked propeller hubs, which could cause failure of the propeller hub, blade separation, and loss of control of the airplane.

Compliance

(e) You are responsible for having the actions required by this AD performed within the compliance times specified unless the actions have already been done.

Propeller Hub Reduced Life Limits

(f) For any propeller assembly, P/N B5JFR36C1101/114GCA-0, C5JFR36C1102/L114GCA-0, B5JFR36C1103/114HCA-0, or C5JFR36C1104/L114HCA-0, with a hub that exceeds 6,000 hours time-since-new (TSN) on the effective date of this AD, remove the propeller hub from service within 250 hours time-in-service after the effective date of this AD.

(g) For any propeller assembly, P/N B5JFR36C1101/114GCA-0, C5JFR36C1102/L114GCA-0, B5JFR36C1103/114HCA-0, or C5JFR36C1104/L114HCA-0, with a hub with fewer than 6,000 hours TSN, remove the propeller hub from service not later than 6,000 hours TSN.

Prohibition of Hubs Exceeding Life Limit

(h) After the effective date of this AD, don't install any hub removed from any propeller assembly that was removed by paragraphs (f) or (g) of this AD into any propeller assembly.

Alternative Methods of Compliance

(i) The Manager, Wichita Aircraft Certification Office, has the authority to approve alternative methods of compliance for this AD if requested using the procedures found in 14 CFR 39.19.

Related Information

(j) Contact Jeff Janusz, Aerospace Engineer, Wichita Aircraft Certification Office, FAA, Small Airplane Directorate, 1801 Airport Road, Room 100, Wichita, KS 67209, telephone: (316) 946-4148; fax: (316) 946-4107, for more information about this AD.

Issued in Burlington, Massachusetts, on June 14, 2010.
Peter A. White,
Assistant Manager, Engine and Propeller Directorate, Aircraft Certification Service.

[FR Doc. 2010-14706 Filed 6-16-10; 8:45 am]

BILLING CODE 4910-13-P